DEPARTMENT OF THE INTERIOR

Bureau of Land Management

[LLCAN00000.L18200000XZ0000]

Notice of Resource Advisory Council Vacancy and Call for Nominations: Northeast California Resource Advisory Council, Susanville, CA

AGENCY: Bureau of Land Management, Interior.

ACTION: Notice.

SUMMARY: Pursuant to authorities in the Federal Advisory Committees Act (Pub. L. 92-463) and the Federal Land Policy and Management Act (Pub. L. 94-579), the Bureau of Land Management (BLM) is seeking nominations to fill a vacant seat on the Northeast California Resource Advisory Council (RAC). The person selected to fill the vacancy will complete an unexpired term that ends in September 2010. The appointee will be eligible to compete for the full three-year term when the current term expires.

FOR FURTHER INFORMATION CONTACT: BLM Alturas Field Manager Tim Burke at (530) 233-4666, or Public Affairs Officer Joseph J. Fontana at the phone or e-mail address listed below.

SUPPLEMENTARY INFORMATION: The council vacancy is in membership category three: Persons holding state, county or local elected office. The appointment will be made by the Secretary of the Interior, as are all BLM RAC appointments. The person selected must have knowledge or experience in the interest area specified, and must have knowledge of the geographic area under the council's purview (the Northeast portion of California and the Northwest corner of Nevada).

Qualified applicants must have demonstrated a commitment to collaborate with varied interests to solve a broad spectrum of natural resource issues.

Nomination forms are available by contacting BLM Public Affairs Officer Joseph J. Fontana, 2950 Riverside Drive, Susanville, CA 96130; by telephone (530) 252-5332; or e-mail, jfontana@ca.blm.gov. Forms are also available online at http://www.blm.gov/ca/st/en/info/rac.html. Nominations must be returned to: Bureau of Land Management, 2950 Riverside Drive, Susanville, CA 96130, Attention Public Affairs Officer, no later (insert date that occurs 30 days after notice publication). Individuals can nominate themselves, or interest groups can submit nominations. Nominations must include letters of support from the interest groups the nominee will represent.

Joseph J. Fontana,
Public Affairs Officer.

[FR Doc. E9-3550 Filed 2-18-09; 8:45 am]

BILLING CODE 4310-40-P